DEPARTMENT OF TRANSPORTATION

Pipeline and Hazardous Materials Safety Administration

[Docket No. PHMSA-2023-0029 (Notice No. 2023-07)]

Hazardous Materials: Information Collection Activities

AGENCY: Pipeline and Hazardous Materials Safety Administration (PHMSA), DOT.

ACTION: Notice and request for comments.

SUMMARY: In accordance with the Paperwork Reduction Act of 1995, PHMSA invites comments on six Office of Management and Budget (OMB) control numbers pertaining to hazardous materials transportation. PHMSA intends to request renewal for these six control numbers from OMB.

DATES: Interested persons are invited to submit comments on or before July 21, 2023.

ADDRESSES: You may submit comments identified by the Docket Number PHMSA-2023-0029 (Notice No. 2023-07) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2023-0029) for this notice at the beginning of the comment. To avoid duplication, please use only one of these four methods. All comments received will be posted without change to the Federal Docket Management System (FDMS) and will include any personal information you provide.

Requests for a copy of an information collection should be directed to Steven Andrews or T. Glenn Foster, Standards and Rulemaking Division, (202) 366-8553, Pipeline and Hazardous Materials Safety Administration, U.S. Department of Transportation, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Confidential Business Info: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as “CBI.” Please mark each page of your submission containing CBI as “PROPIN.” PHMSA will treat such marked submissions as confidential under the FOIA, and they will not be placed in the public docket of this notice. Submissions containing CBI should be sent to Steven Andrews or Glenn Foster, Standards and Rulemaking Division and addressed to the Pipeline and Hazardous Materials Safety Administration, U.S. Department of Transportation, 1200 New Jersey Avenue SE, Washington, DC 20590-0001. Any commentary that PHMSA receives which is not specifically designated as CBI will be placed in the public docket for this notice.

FOR FURTHER INFORMATION CONTACT: Steven Andrews or T. Glenn Foster, Standards and Rulemaking Division, (202) 366-8553, Pipeline and Hazardous Materials Safety Administration, U.S. Department of Transportation, 1200 New Jersey Avenue SE, Washington, DC 20590-0001.

SUPPLEMENTARY INFORMATION: Section 1320.8(d), title 5, Code of Federal Regulations (CFR) requires the Pipeline and Hazardous Materials Safety Administration (PHMSA) to provide interested members of the public and affected agencies an opportunity to comment on information collection and recordkeeping requests. This notice identifies information collection requests that PHMSA will be submitting to the Office of Management and Budget (OMB) for renewal and extension. These information collections are contained in 49 CFR 171.6 of the Hazardous Materials Regulations (HMR; 49 CFR parts 171-180). PHMSA has revised burden estimates, where appropriate, to reflect current reporting levels or adjustments based on changes in proposed or final rules published since the information collections were last approved. The following information is provided for each information collection: (1) title of the information collection, including former title if a change is being made; (2) OMB control number; (3) summary of the information collection activity; (4) description of affected public; (5) estimate of total annual reporting and recordkeeping burden; and (6) frequency of collection. PHMSA will request a 3-year term of approval for each information collection activity and will publish a notice in the Federal Register alerting the public upon OMB's approval.

PHMSA requests comments on the following information collections:

Title: Inspection and Testing of Portable Tanks and Intermediate Bulk Containers.

OMB Control Number: 2137-0018.

Summary: This OMB control number describes the information collections in parts 173, 178, and 180 of the HMR pertaining to the documenting qualifications, inspections, tests, and approvals pertaining to the manufacture and use of portable tanks and intermediate bulk containers (IBCs) under various provisions of the HMR. Information collections under this OMB control number include:

(1) Design Qualification Testing for IBCs: This information collection consists of the minimum requirements for testing procedures to ensure that IBCs containing hazardous materials can withstand normal conditions of transportation. Each packaging must pass the prescribed tests and conform to § 173.24 while in transportation. The testing requirements in § 178.801(d) ensure that the packaging manufacturer achieves successful test results for the design qualification testing at the start of production of each new or different IBC design type.

(2) Periodic Design Requalification Testing of IBCs: This information collection consists of the requirements for periodic design re-qualification of each qualified IBC design type to maintain authorization for continued production. IBC manufacturers must conduct successful tests at sufficient frequency to ensure each packaging produced is capable of passing the design qualification tests, which must be conducted at least once every 12 months.

(3) Applications for Approval of Equivalent Packaging: This information collection consists of the requirements for approval of equivalent packaging applications submitted by the regulated community to PHMSA, which allows the use of an IBC differing from the standards outlined in the HMR if it is shown to be equally effective and if the testing methods used are equivalent.

(4) Reporting Requirements for Retest and Inspection of IBCs: This information collection consists of the requirements for the continuing qualification, maintenance, or periodic retesting of an IBC by any person responsible for it. Each IBC constructed in accordance with a United Nations (UN) standard for which a test or inspection is required may not be filled and offered for transportation or transported until the testing and inspection have been successfully completed. The information collection also reflects the creation of a report that identifies the testing and inspection of IBCs.

(5) Recordkeeping for IBC Testing. This information collection consists of the recordkeeping requirements associated with IBC testing in §§ 178.801 and 180.352. The IBC owner or lessee must keep records of periodic retests, initial and periodic inspections, and test performance on the IBC if it has been repaired. Records must be kept for each packaging at each location where periodic tests are conducted and must be available for inspection by a DOT representative upon request.

(6) Manufacturers Data Report (ASME) for Portable Tanks: This information collection consists of the requirements for tanks designed and constructed in accordance with, and that fulfill all the requirements of, the American Society of Mechanical Engineers (ASME) Code. In addition to the markings required by the ASME Code, every tank must bear permanent marks that include the information specified in § 178.255-14, which must be stamped into the metal near the center of one of the tank heads or stamped into a plate permanently attached to the tank by means of brazing or welding or other suitable means.

(7) Approval Applications for Specification UN Portable Tank Design: This information collection requires an owner or manufacturer of a portable tank to apply for an approval to a designated approval agency authorized to approve new portable tanks designs.

(8) Applications for Modifications to Portable Tank Designs: This information collection requires an owner or manufacturer of a portable tank to apply for an approval to a designated approval agency authorized to approve the modifications to portable tanks designs.

(9) Portable Tanks—Approval Agency Retention of Documents: This information collection consists of the requirement for approval agencies to review all drawings and calculations to ensure that the design is compliant with the relevant specification. The approval agency must maintain the drawings and approval records for as long as the portable tank remains in service and provide this information to the DOT upon request.

(10) Portable Tanks—Manufacturers Retention of Documents: This information collection requires that qualification records for specification portable tanks be retained for at least 5 years by the tank manufacturer and made available to duly identified representatives of the DOT or the owner of the tank.

(11) Recordkeeping for the Testing of Portable Tank: This information collection requires that the owner of the portable tank or his/her authorized agent will retain a written record indicating the date and results of all required tests, as well as the name and address of the tester, until the next retest has been satisfactorily completed and recorded. This information must be provided to the DOT upon request.

The following is a list of the information collections and burden estimates associated with this OMB Control Number:

Information collection | Respondents | Total annual responses | Hours per response | Total annual burden hours
Design Qualification Testing for IBCs—Applications for the Certification Mark | 13 | 494 | 3 | 1,482
Periodic Design Requalification Testing of IBCs—Submission of Changes to Test Frequency to the Associate Administrator | 13 | 494 | 3 | 1,482
Applications for Approval of Equivalent Packaging—IBCs | 5 | 5 | 3 | 15
Reporting Requirements for Retest and Inspection of IBCs | 1,000 | 100,000 | 0.25 | 25,000
Recordkeeping for IBC Testing | 150 | 150 | 0.25 | 38
Manufacturers Data Report (ASME) for Portable Tanks | 50 | 50,000 | 0.25 | 12,500
Approval Applications for Specification UN Portable Tank Design | 13 | 494 | 3 | 1,482
Applications for Modifications to Portable Tank Designs | 13 | 494 | 3 | 1,482
Portable Tanks—Approval Agency Retention of Documents | 13 | 494 | 0.25 | 124
Portable Tanks—Manufacturers Retention of Documents | 50 | 50,000 | 0.25 | 12,500
Recordkeeping for the Testing of Portable Tanks | 150 | 150 | 0.25 | 38

Affected Public: Manufacturers and owners of portable tanks and intermediate bulk containers.

Annual Reporting and Recordkeeping Burden:

Number of Respondents: 1,470.

Total Annual Responses: 202,775.

Total Annual Burden Hours: 56,143.

Frequency of Collection: On occasion.

Title: Hazardous Materials Shipping Papers & Emergency Response Information.

OMB Control Number: 2137-0034.

Summary: This OMB control number describes the information collections in parts 172, 173, 174, 175, 176 and 177 of the HMR pertaining to the requirement to provide a shipping paper and emergency response information with shipments of hazardous materials. Shipping papers are considered to be a basic communication tool relative to the transportation of hazardous materials. The definition of a shipping paper in 49 CFR 171.8 includes a shipping order, bill of lading, manifest, or other shipping document serving a similar purpose and containing the information required by §§ 172.202, 172.203, and 172.204 of the HMR. A shipping paper with emergency response information must accompany most hazardous materials shipments and be readily available at all times during transportation.

Shipping papers serve as the principal source of information regarding the presence of hazardous materials, identification, quantity, and emergency response procedures. They also serve as the source of information for compliance with other requirements, such as the placement of rail cars containing different hazardous materials in trains; prevent the loading of poisons with foodstuffs; maintain the separation of incompatible hazardous materials; and limit the amount of radioactive materials that may be transported in a vehicle or aircraft. Shipping papers and emergency response information also serve as a means of notifying transport workers that hazardous materials are present. Most importantly, shipping papers serve as a principal means of identifying hazardous materials during transportation emergencies. Firefighters, police, and other emergency response personnel are trained to obtain the DOT shipping papers and emergency response information when responding to hazardous materials transportation emergencies. The availability of accurate information concerning hazardous materials being transported significantly improves response efforts in these types of emergencies. In addition to the shipping paper and emergency response information, this OMB control number also includes the following information collections:

(1) Notice of Pilot in Command: This information collection consists of the additional time required for the pilot-in-command to complete the confirmation process for the loading of hazardous materials on aircraft. The confirmation process includes obtaining a signature or other appropriate indication from the person responsible for loading the aircraft and from the pilot-in-command.

(2) Lithium Battery Test Summary Document: This information collection requires the creation of a lithium battery test summary document for lithium cells and batteries manufactured after January 1, 2008. This information collection includes both a reporting and recordkeeping component.

(3) Air Transportation Discrepancy Reports: This information collection requires that each person who discovers an improperly described, certified, labeled, marked, or packaged hazardous material during air transportation, including passenger baggage (known as a passenger (PAX) discrepancy), must notify the nearest Federal Aviation Administration (FAA) Regional Office by telephone or electronically. Electronic notifications may be submitted by email or through the Safety Assurance System (SAS) External Portal.

The following is a list of the information collections and burden estimates associated with this OMB Control Number:

Information collection | Respondents | Total annual responses | Hours per response | Total annual burden hours
Hazardous Materials Shipping Papers & Emergency Response Information | 260,000 | 175,262,735 | .03 | 4,599,426
Notice of Pilot in Command | 150 | 2,004,717 | .003 | 5,961
Lithium Battery Test Summary—Reporting | 73 | 2,336 | 0.5 | 1,168
Lithium Battery Test Summary—Recordkeeping | 5,790 | 19,596 | 0.116 | 2,286
Air Transportation Discrepancy Reports | 58 | 15,529 | .0833 | 1,294

Affected Public: Shippers and carriers of hazardous materials in commerce.

Annual Reporting and Recordkeeping Burden:

Total Number of Respondents: 266,071.

Total Annual Responses: 177,304,913.

Total Annual Burden Hours: 4,610,135.

Frequency of Collection: On occasion.

Title: Approval for Hazardous Materials.

OMB Control Number: 2137-0557.

Summary: This OMB control number describes the information collections in parts 107, 173, 175, 176, 178, and 180 of the HMR pertaining to approvals issued by the Office of Hazardous Materials Safety (OHMS) within PHMSA. Without these requirements there is no means to: (1) Determine whether applicants who apply to become designated approval agencies are qualified to evaluate package design, test packages, classify hazardous materials, etc.; (2) verify that various containers and special loading requirements for vessels meet the requirements of the HMR; and (3) assure that regulated hazardous materials pose no danger to life and property during transportation.

There are several approval provisions contained in the HMR and associated procedural regulations. Responses to these collections of information are required to obtain benefits, such as becoming an approval or certification agency, or to obtain a variance from packaging or handling requirements based on information provided by the respondent. These benefits and variances involve areas, for example, such as UN third-party certification; authorization to examine and test lighters; authorization to examine and test explosives; and authorization to re-qualify DOT cylinders. Specifically, the information collections under this OMB control number include:

(1) Designated approval agencies, independent cylinder testing agencies, and prospective foreign manufacturers of cylinders: This information collection consists of the requirement for parties to obtain approval from the Associate Administrator in order to become designated approval agencies, independent cylinder testing agencies, or prospective foreign manufacturers of cylinders. These designated approval agencies evaluate the design of packagings used for the shipments of hazardous materials.

(2) Approval of Cylinder and Pressure Receptacle Requalifiers: This information collection concerns the requirement for approval by the Associate Administrator to inspect, test, certify, repair, or rebuild a DOT specification cylinder or a UN pressure receptacle under certain circumstances. These circumstances include a special permit issued under this part or a cylinder manufactured in accordance with Transport Canada's Transportation of Dangerous Good (TDG) Regulations.

(3) M-Numbers: This information collection consists of assigning M-numbers to companies involved in the manufacturing, reconditioning, repairing, or testing of DOT specification containers or cylinders used for transporting hazardous materials.

(4) RIN Approval for Cylinders (International Shipments): This information collection consists of an application that RIN holders can submit under § 107.805(f)(2), which includes required information and certifications related to the inspection and requalification of certain cylinder specifications.

(5) Competent Authority Approvals: This information collection consists of additional approval and classification requirements for transporting certain hazardous materials, such as tear gas devices and certain organic peroxides. Tear gas devices require extra approval for transport in closed environments, while certain organic peroxides require special refrigeration and PHMSA approval to prevent self-accelerated decomposition.

(6) Lithium Battery State of Charge Approval: This information collection consists of an approval process that allows for the transportation of lithium-ion cells and batteries on cargo aircraft with a state of charge exceeding 30 percent of their rated capacity. This is in contrast to the general requirement that such transportation must occur with a state of charge not exceeding 30 percent of their rated capacity.

(7) Alternative Packagings or Test Methods: This information collection consists of an approval process that allows a person to offer a hazardous material in transportation with alternative packaging or test methods, which are not currently authorized in the HMR. The approvals provide flexibility to the industry by allowing packagings that are not constructed as per the HMR and permitting specific testing, test methods, and intervals.

(8) Infectious Substances: This information collection consists of a requirement to obtain approval for the transportation of live animals containing or contaminated with genetically modified micro-organisms, including those that also meet the Division 6.2 material definition, to comply with approved terms and conditions set by the Associate Administrator for Hazardous Materials Safety.

(9) Testing and Assignment of the Classification of Explosive Materials: This information collection consists of an approval process for the testing and assignment of hazard classifications for the transportation of explosives and explosive devices, including fireworks, which pose significant technical difficulties and hazards. Proper hazard classification is crucial for the safe packaging and handling of these materials during transportation via all modes, as an incorrect classification could result in improper packaging or handling and cause damage to property, loss of life, or both.

(10) Packaging Exception/Exceptions for Division 1.4G Consumer Fireworks: This information collection consists of an application process for manufacturers of consumer fireworks to obtain approval and classification of their products. The process requires the submission of a complete application containing all relevant information, test results, and certifications.

The following is a list of the information collections and burden estimates associated with this OMB Control Number:

Information collection | Respondents | Total annual responses | Hours per response | Total annual burden hours
Designated approval agencies, independent cylinder testing agencies, and prospective foreign manufacturers of cylinders | 15 | 15 | 4.75 | 71
Approval of Cylinder and Pressure Receptacle Requalifiers | 3,000 | 3,000 | 1.105 | 3,315
M Numbers (New Application) | 30 | 30 | 4.75 | 143
M Numbers (Modifications/Renewals) | 150 | 150 | 1 | 150
RIN Approval for Cylinders (International Shipments) | 3,500 | 3,500 | 0.852 | 2,982
Competent Authority Approvals—Safety Determinations as to the Adequacy of the Packagings for Materials with Special Hazards (New Applications) | 50 | 250 | 4.75 | 1,188
Competent Authority Approvals—Safety Determinations as to the Adequacy of the Packagings for Materials with Special Hazards—(Renewals/Modifications/Corrections) | 120 | 480 | 1 | 480
Lithium Battery State of Charge Approval | 10 | 10 | 40 | 400
Alternative Packagings or Test Methods | 24 | 24 | 4.75 | 114
Infectious Substances | 5 | 5 | 4.75 | 24
Testing and Assignment of the Classification of Explosive Materials—New Applications | 330 | 330 | 4.75 | 1,568
Testing and Assignment of the Classification of Explosive Materials—Modifications | 700 | 700 | 1 | 700
Packaging Exception/Exceptions for Division 1.4G Consumer Fireworks | 3,200 | 6,400 | 4.75 | 30,400

Affected Public: Business and other entities who must meet the approval requirements in the HMR.

Annual Reporting and Recordkeeping Burden:

Total Number of Respondents: 11,134.

Total Annual Responses: 14,894.

Total Annual Burden Hours: 41,535.

Frequency of Collection: On occasion.

Title: Rail Carrier and Tank Car Tanks Requirements, Rail Tank Car Tanks—Transportation of Hazardous Materials by Rail.

OMB Control Number: 2137-0559.

Summary: This information collection consolidates and describes the information provisions in parts 172, 173, 174, 179, and 180 of the HMR pertaining to the transportation of hazardous materials by rail and the manufacture, qualification, maintenance, and use of tank cars. The types of information collected include:

(1) Tank Car Approvals: This information collection consists of special provisions that mandate the approval of the Associate Administrator or the Association of American Railroads (AAR) Committee on Tank Cars before certain hazardous material packaging or packaging components can be used for transportation of hazardous materials by rail.

(2) AAR approval required when a tank car is proposed for commodity service other than specified on a certificate of construction: This information collection consists of requirements for obtaining AAR Tank Car Committee approval for the use of a tank car for commodities other than those specified in part 173 and the certificate of construction. It also includes requirements for AAR approval of tank car design, materials, construction, conversion, alteration, or construction to a new specification. This information is used to ensure that tank cars are suitable for transporting specific commodities and that tank car design, construction, and modification comply with the relevant regulations.

(3) Annual tank car owner progress report to FRA: This information collection consists of the requirement for tank car owners to submit progress reports to the Federal Railroad Administration (FRA) if their tank cars need to be modified to meet the requirements specified in § 173.31. The FRA uses this information to track progress and ensure that all affected tank cars are modified before the regulatory compliance date.

(4) Compressed Gases and Cryogenic Liquids in Tank Cars and Multi Unit Tank Cars Reporting: This information collection requires the shipper to notify the FRA whenever a tank car transporting hydrogen chloride, refrigerated liquids, or vinyl fluoride, stabilized is not received by the consignee within 20 days from the date of shipment.

(5) Reporting to the Bureau of Explosives regarding any restrictions over any portion of its lines: This information collection requires each rail carrier to report to the Bureau of Explosives (BOE), for publication, all information as to any restrictions which it imposes against the acceptance, delivery, or transportation of any hazardous materials, over any portion of its lines.

(6) Nonconforming bulk packages must be repaired or approved from movement by the FRA: This information collection requires that a bulk packaging, such as a tank car tank, that no longer conforms to applicable HMR requirements may not be forwarded by rail unless repaired or approved for movement by the Associate Administrator for Safety, FRA. Notification and approval must be furnished in writing or through telephonic or electronic means, with subsequent written confirmation provided within two weeks.

(7) FRA Approval for transportation of bulk packages containing a hazardous material in COFC or TOFC service: This information collection requires that the Associate Administrator for Safety, FRA approve the transportation of bulk packages, such as portable tanks and cargo tanks, containing a hazardous material in container-on-flatcar (COFC) or trailer-on-flatcar (TOFC) service if not otherwise authorized for transportation.

(8) Division 1.1 or 1.2 explosive material inspection and Car Certificate requirements: This information collection requires that before a Division 1.1 or 1.2 explosive materials may be loaded into a rail car, the car must have been inspected and certified to be in compliance with the requirements of § 174.104(b) by a qualified person designated under 49 CFR 215.11.

(9) Initial marking, requalification marking, and requalification reporting requirements: This information collection consist of the requirements for the detail marking of a newly manufactured tank car, requalification tank car marking requirements, and reporting of details for a requalified tank car.

(10) Quality Assurance Program: This information collection requires facilities that build, repair, and ensure the structural integrity of tank cars are required to develop and implement a quality assurance program. This information is used by the facility and DOT compliance personnel to ensure that each tank car is constructed or repaired in accordance with the applicable requirements.

The following is a list of the information collections and burden estimates associated with this OMB Control Number:

Information collection | Respondents | Total annual responses | Hours per response | Total annual burden hours
Tank Car Approvals | 2 | 2 | 6.5 | 13
AAR approval required when a tank car is proposed for commodity service other than specified on a certificate of construction | 25 | 1,200 | 0.167 | 200
Annual tank car owner progress report to FRA | 100 | 100 | 1 | 100
Compressed Gases and Cryogenic Liquids in Tank Cars and Multi Unit Tank Cars Reporting | 6 | 141 | 0.25 | 35
Reporting to the Bureau of Explosives regarding any restrictions over any portion of its lines | 34 | 51 | 0.333 | 17
Nonconforming bulk packages must be repaired or approved from movement by the FRA | 388 | 4,308 | 0.4 | 1,695
FRA Approval for transportation of bulk packages containing a hazardous material in COFC or TOFC service | 6 | 6 | 0.5 | 3
Division 1.1 or 1.2 explosive material inspection and Car Certificate requirements | 25 | 600 | 0.333 | 200
Record when a car seal is changed when the car is placarded with Division 1.1 or 1.2 explosive materials | 34 | 170 | 0.166 | 28
Initial marking, requalification marking, and requalification reporting requirements | 100 | 15,000 | 0.116 | 1,768
Quality assurance program | 75 | 75 | 5.5 | 413

Affected Public: Manufacturers, owners, and rail carriers of tank.

Annual Reporting and Recordkeeping Burden:

Total Number of Respondents: 795.

Total Annual Responses: 21,653.

Total Annual Burden Hours: 4,472.

Frequency of Collection: Annually.

Title: Testing Requirements for Non-Bulk Packaging.

OMB Control Number: 2137-0572.

Summary: These OMB control number describes the information collections in parts 173 and 180 of the HMR pertaining to the testing requirements for non-bulk packagings. This OMB control number covers performance-oriented packaging standards and allows packaging manufacturers and shippers more flexibility in selecting more economical packagings for their products. These information collections also allow customizing the design of packagings to better suit the transportation environment that they will encounter and encourages technological innovations, decreases packaging costs, and significantly reduces the need for special permits. These information collections specifically include:

(1) Testing Requirements for Non-Bulk Packaging (Reporting): This information collection consists of various testing requirements that must be met by non-bulk packaging, depending on the type of material it will contain. These include thermal resistance tests for packaging transporting oxygen cylinders, leakproofness tests for liquid hazardous materials, hydrostatic pressure tests for metal, plastic, and composite containers, cooperage tests for bung-type wooden barrels, and additional testing for packaging intended to contain infectious substances. The specific tests required may vary based on the outer and inner packaging material used.

(2) Additional Test Reports (Reporting): This information collection consists of the requirement to prepare and maintain a test report after each design qualification test or periodic retest of a packaging. The test report must be available to the user of the packaging or a representative of the DOT upon request and includes details such as the date, name, and address of the testing facility, packaging design type, maximum capacity, characteristics of test contents, and test descriptions and results.

(3) Test Reports (Recordkeeping): This information collection requires that test report must be made available to a user of a packaging or a representative of the DOT, upon request. The test report includes information such as: the date, name, and address of the testing facility; a description of the packaging design type; the maximum capacity; characteristics of test contents; and test descriptions and results.

(4) Closure Instructions (Reporting): This information collection consists of the requirement for the manufacturer or certifier of non-bulk packaging to create closure instructions, in accordance with § 178.2(c). These instructions indicate the means of closure with which the package was tested and ensure that any subsequent shipper maintains the same level of safety when the package is closed for transportation of hazardous materials.

(5) Closure Instructions (Recordkeeping): This information collection requires that the manufacturer or other person certifying compliance, along each subsequent distributor of the packaging, provide closure instructions to each person to whom the packaging is transferred, as well as any representative of the DOT, for inspection.

The following is a list of the information collections and burden estimates associated with this OMB Control Number:

Information collection | Respondents | Total annual responses | Hours per response | Total annual burden hours
Testing Requirements for Non-Bulk Packaging—Reporting | 5,000 | 15,000 | 2.016 | 30,250
Additional Test Reports—Reporting | 10 | 30 | 2 | 60
Test Reports—Recordkeeping | 100 | 1,000 | 0.1 | 100
Closure Instructions—Reporting | 500 | 500 | 2 | 1,000
Closure Instructions—Recordkeeping | 16,080 | 16,080 | 0.083 | 1,340

Affected Public: Each non-bulk packaging manufacturer that tests packagings to ensure compliance with the HMR.

Annual Reporting and Recordkeeping Burden:

Total Number of Respondents: 21,690.

Total Annual Responses: 32,610.

Total Annual Burden Hours: 32,750.

Frequency of Collection: On occasion.

Title: Hazardous Materials Public Sector Training and Planning Grants.

OMB Control Number: 2137-0586.

Summary: This OMB control number describes the information collections in parts 110 of the HMR pertaining to the procedures for reimbursable grants for public sector planning and training in support of the emergency planning and training efforts of States, Indian tribes, and local communities to manage hazardous materials emergencies, particularly those involving transportation. Sections in this part address information collection and recordkeeping with regard to applying for grants, monitoring expenditures, and reporting and requesting modifications.

The following is a list of the information collections and burden estimates associated with this OMB Control Number:

Information collection | Respondents | Total annual responses | Hours per response | Total annual burden hours
Hazardous Materials Grants Applications | 62 | 62 | 83.23 | 5,162

Affected Public: State and local governments, Indian tribes.

Annual Reporting and Recordkeeping Burden:

Total Annual Respondents: 62.

Annual Responses: 62.

Annual Burden Hours: 5,162.

Frequency of collection: On occasion.

Issued in Washington, DC, on May 17, 2023.
T. Glenn Foster,
Chief, Regulatory Review and Reinvention Branch, Office of Hazardous Materials Safety, Pipeline and Hazardous Materials Safety Administration.

[FR Doc. 2023-10857 Filed 5-19-23; 8:45 am]

BILLING CODE 4910-60-P